DEPARTMENT OF DEFENSE

Department of the Navy

Notice of Availability of Government-Owned Inventions; Available for Licensing

AGENCY: Department of the Navy, DOD.

ACTION: Notice.

SUMMARY: The inventions listed below are assigned to the United States Government as represented by the Secretary of the Navy and are made available for licensing by the Department of the Navy.

The following patent applications are available for licensing:

U.S. Patent Application Ser. No. 07/857553: AUTOMATIC LOCALIZATION MACHINE; filed on 23 Mar 1992.//U.S. Patent Application Ser. No. 08/457351: A METHOD OF ESTIMATING A TARGET'S POSITION AND VELOCITY FROM PASSIVE DOPPLER; filed on 19 May 1995.//U.S. Patent Application Ser. No. 08/969531: METHOD FOR REDUCING DISTORTION OF UNDERWATER ACOUSTIC SIGNALS; filed on 22 Sep 1997.//U.S. Patent Application Ser. No. 08/645733: HYDROPHONE POSITION LOCATING SYSTEM; filed on 14 May 1996.//U.S. Patent Application Ser. No. 08/861304: MULTIPLE LINE TOWED ARRAY HAVING DRAG FORCE ACTUATED LINE SPREADER; filed on 21 May 1997.//U.S. Patent Application Ser. No. 08/861510: MULTIPLE LINE TOWED ARRAY WITH PULLEY OPERATED LINE SPREADER; filed on 22 May 1997.//U.S. Patent Application Ser. No. 09/685151: CONTROLLED MACRO-ROUGHNESS TO REDUCE SURFACES WAKES AND DRAG; filed on 11 Oct 2000. //U.S. Patent Application Ser. No. 09/685153: LEADING EDGE FIXTURES TO REDUCE SURFACE WAKES AND DRAG; filed on 11 Oct 2000.//U.S. Patent Application Ser. No. 09/685145: RELEASE LINK FOR INTERCONNECTED CABLES; filed on 11 Oct 2000.//U.S. Patent Application Ser. No. 09/688470: AXIAL FIELD PERMANENT MAGNET MOTOR WITH EMBEDDED CONDUCTIVE RADIAL ROTOR BAR; filed on 12 Oct 2000.//U.S. Patent Application Ser. No. 08/114467: MARINE PROPULSOR WITH INTEGRAL COANDA-EFFECT CONTROL SURFACES; filed on 06 Jul 1998.//U.S. Patent Application Ser. No. 09/688473: METHOD AND SYSTEM FOR DETERMINING UNDERWATER EFFECTIVE SOUND VELOCITY; filed on 12 Oct 2000.//U.S. Patent Application Ser. No. 09/685149: DEMODULATION SYSTEM AND METHOD FOR RECOVERING A SIGNAL OF INTEREST FROM A MODULATED CARRIER SAMPLED AT TWO TIMES THE PHASE GENERATED CARRIER FREQUENCY; filed on 11 Oct 2000. //U.S. Patent Application Ser. No. 08/063800: NON-PARAMETRIC RAPIDLY ADAPTIVE POWER LAW DETECTOR; filed on 21 Apr 1998. //U.S. Patent Application Ser. No. 08/226623: DISPERSE, AGGREGATE AND DISPERSE (DAD) CONTROL STRATEGY FOR MULTIPLE AUTONOMOUS SYSTEMS TO OPTIMIZE RANDOM SEARCH; filed on 21 Dec 1998.//U.S. Patent Application Ser. No. 09/541834: LOW COST BOW-DOME ACOUSTIC SENSOR; filed on 03 Apr 2000. //U.S. Patent Application Ser. No. 08/226622: A SLOSHING PROPULSOR AND A FLOW MANAGEMENT DEVICE; filed on 21 Dec 1998.//U.S. Patent Application Ser. No. 09/678878: DEPLOYABLE NOSE FOR AN UNDERWATER VEHICLE; filed on 04 Oct 2000.//U.S. Patent Application Ser. No. 09/912656: ACOUSTIC VECTOR SENSOR; filed on 25 Jul 2001.//U.S. Patent Application Ser. No. 09/520376: TWO-AXIS ISOLATED ROTOR; filed on 06 Mar 2000.//U.S. Patent Application Ser. No. 09/684082: SIDE THRUSTER PERFORMANCE IMPROVEMENT WITH VARIABLE PITCH PROPELLER BLADES; filed on 10 Oct 2000.//U.S. Patent Application Ser. No. 09/562996: POLYMER ELECTROMAGNETIC EJECTION SLOT; filed on 01 May 2000.//U.S. Patent Application Ser. No. 09/656193: TORPEDO TUBE-SHUTTER PRESSURE RELEASE; filed on 06 Sep 2000.//U.S. Patent Application Ser. No. 09/778990: ELECTRIC MOTOR; filed on 06 Feb 2001.//U.S. Patent Application Ser. No. 09/968397: MISSILE SUPPORT AND ALIGNMENT ASSEMBLY; filed on 01 Oct 2001.//Navy Case No. 76481: METHOD FOR CLUSTER DETECTION IN A SONAR SYSTEM.//Navy Case No. 76482: METHOD FOR INTRA-SENSOR DATA FUSION IN A SONAR SYSTEM.

Copies of patents cited are available from the Commissioner of Patents and Trademarks, Washington, DC 20231, for $3.00 each. Requests for copies of patents must include the patent number.

Copies of patent applications cited may be available from the National Technical Information Service (NTIS), Springfield, VA 22161, for $6.95 each ($10.95 outside North American Continent). Requests for copies of patent applications must include the patent application serial number. To avoid premature disclosure, claims are deleted from the copies of patent applications sold. Requests for copies of unfiled patent applications can be made to the point of contact, below and must include the Navy Case number.

FOR FURTHER INFORMATION CONTACT: Dr. Theresa A. Baus, Technology Transfer Manager, Naval Undersea Warfare Center Division, Newport, 1176 Howell St., Newport, RI 02841-1703.

Dated: February 20, 2002.
T.J. Welsh,
Lieutenant Commander, Judge Advocate General's Corps, U.S. Navy, Federal Register Liaison Officer.

[FR Doc. 02-4585 Filed 2-26-02; 8:45 am]

BILLING CODE 3810-FF-P